DEPARTMENT OF HEALTH AND HUMAN SERVICES

National Institutes of Health

Government-Owned Inventions; Availability for Licensing

AGENCY: National Institutes of Health, HHS.

ACTION: Notice.

SUMMARY: The inventions listed below are owned by an agency of the U.S. Government and are available for licensing in the U.S. to achieve expeditious commercialization of results of federally-funded research and development.

FOR FURTHER INFORMATION CONTACT: Licensing information may be obtained by emailing the indicated licensing contact at the National Heart, Lung, and Blood, Office of Technology Transfer and Development Office of Technology Transfer, 31 Center Drive Room 4A29, MSC2479, Bethesda, MD 20892-2479; telephone: 301-402-5579. A signed Confidential Disclosure Agreement may be required to receive any unpublished information.

SUPPLEMENTARY INFORMATION: Technology description follows.

Adeno-Associated Viruses In Inner-Ear Therapeutics

Available for licensing and commercial develop are intellectual property rights associated with adeno-associated viral vector (AAV) mediated inner-ear gene therapy can prevent and reverse hair cell damage to improve auditory function. Hearing loss is associated with age or trauma induced inner ear hair cell damage or hereditary genetic defects in the inner ear development. The delivery of functional copies of mutated or functionally impaired genes can restore hearing. An effective gene therapy requires a powerful delivery vehicle such as a viral vector with high infection efficiency to the inner ear cells. The inventors identified the recombinant AAV2.7m8 virus with modified capsid protein with a high viral vector efficiency for delivering genetic therapeutic payloads to multiple cell types of mammalian inner ear.

Potential Commercial Applications

—Promising gene therapy vector for the treatment of hearing loss and dizziness.

— AAV2.7m8 can be used for human inner ear gene therapy for various diseases of the ear.

Development Stage

In vivo data in mice available.

Inventors: Wade Chien (NIDCD) and Jean Bennett (UPenn).

Intellectual Property: HHS Reference No. E-004-2019-0; U.S. Provisional Patent Application No. 62/784,306 filed December 21, 2018.

Licensing Contact: Michael Shmilovich, Esq, CLP; 301-435-5019; shmilovm@mail.nih.gov.

Dated: February 5, 2019.
Michael A. Shmilovich,
Senior Licensing and Patenting Manager, National Heart, Lung, and Blood Institute, Office of Technology Transfer and Development.

[FR Doc. 2019-02443 Filed 2-14-19; 8:45 am]

BILLING CODE 4140-01-P